DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska American Fisheries Act Reports.

OMB Control Number: 0648-0401.

Form Number(s): None.

Type of Request: Regular (revision and extension of a currently approved information collection).

Number of Respondents: 8.

Average Hours per Response: Chinook Salmon Incentive Plan Agreement (IPA), 40 hours; Non-Chinook Salmon Inter-cooperative Agreement (ICA) revisions, 1 hour; Chinook Salmon IPA Annual Report, Non-Chinook ICA Annual Report, American Fisheries Act (AFA) Annual Cooperative Report, AFA Annual Cooperative Catch Report and AFA Cooperative Contract, 8 hours each; AFA Catcher Vessel Intercooperative Agreement and AFA Catcher Vessel Intercooperative Agreement Annual Report, 40 hours each.

Burden Hours: 345.

Needs and Uses: This request is for revision and extension of a currently approved information collection. Two new voluntary reports have been added, and one report removed.

On October 21, 1998, the President signed into law The American Fisheries Act, 16 U.S.C. 1851 (AFA). The AFA established a limited access program for the inshore sector of the BSAI pollock fishery that is based on the formation of fishery cooperatives around each inshore pollock processor. NMFS issues a single pollock allocation to each cooperative and the cooperative may make sub-allocations of pollock to each individual vessel owner in the cooperative.

♢ With respect to the fisheries off Alaska, the AFA Program is a suite of management measures that fall into four general regulatory categories:

♢ Limit access into the fishing and processing sectors of the BSAI pollock fishery and that allocate pollock to such sectors (50 CFR 679.64).

♢ Govern the formation and operation of fishery cooperatives in the BSAI pollock fishery, including filing of cooperative contracts (50 CFR 679.61 and 679.62).

♢ Protection of other fisheries from spillover effects from the AFA (50 CFR 679.64).

♢ Govern catch measurement and monitoring in the BSAI pollock fishery, including filing of annual reports and completing and submitting inshore catcher vessel pollock cooperative catch reports (50 CFR 679.63).

Affected Public: Business or other for-profit organizations.

Frequency: Annually, on occasion.

Respondent's Obligation: Required to obtain or retain benefits, voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 8, 2014.
Glenna Mickelson,
Management Analyst, Office of the Chief Information Officer.

[FR Doc. 2014-29098 Filed 12-11-14; 8:45 am]

BILLING CODE 3510-DT-P